DEPARTMENT OF HOUSING AND URBAN DEVELOPMENT

[Docket No. FR-7034-N-53]

30-Day Notice of Proposed Information Collection: HOME Investment Partnerships Program; OMB Control No. 2506-0171

AGENCY: Office of the Chief Information Officer, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: October 20, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on June 25, 2021 at 86 FR 33722.

A. Overview of Information Collection

Title of Information Collection: HOME Investment Partnerships Program.

OMB Approval Number: 2506-0171.

Type of Request: Revision of a currently approved collection.

Form Number: N/A.

Description of the need for the information and proposed use: The information collected through HUD's Integrated Disbursement and Information System (IDIS) (24 CFR 92.502) is used by HUD Field Offices, HUD Headquarters, and HOME Investment Partnerships Program (HOME) Participating Jurisdictions (PJs). The project-specific property, tenant, owner, and financial data is used to compile annual reports to Congress required at Section 284(b) of Title II of the Cranston-Gonzalez National Affordable Housing Act of 1990 (42 U.S.C. 12721 et seq.) (the Act) as well as to make program management decisions about how well PJs are achieving the statutory objectives of the HOME Program. Program management reports are generated by IDIS to provide data on the status of PJs' HOME grants and projects including the commitment and disbursement of HOME funds. These reports are provided to HUD staff as well as to HOME PJs.

Management reports required in conjunction with the Annual Performance Report (24 CFR 92.509) are used by HUD Field Offices to assess the effectiveness of locally designed programs in meeting specific statutory requirements and by Headquarters in preparing the Annual Report to Congress. Specifically, these reports permit HUD to determine compliance with the requirement that PJs provide a 25 percent match for HOME funds expended during the Federal fiscal year (Section 220 of the Act) and that program income be used for HOME eligible activities (Section 219 of the Act), as well as the Women and Minority Business Enterprise requirements (24 CFR 92.351(b)).

Financial, project, tenant and owner documentation are used to determine compliance with HOME Program cost limits (Section 212(e) of the Act), eligible activities (24 CFR 92.205), and eligible costs (24 CFR 92.206), as well as to determine whether PJs are complying with the income targeting and affordability requirements of the Act (Sections 214 and 215 of the Act). Other information collected under Subpart H of Part 92 (Other Federal Requirements) is primarily intended for local program management and is only viewed by HUD during routine monitoring visits. The written agreement with the owner for long-term obligation (24 CFR 92.504) and tenant protections (24 CFR 92.253) are required to ensure that the property owner complies with these important elements of the HOME Program and are also reviewed by HUD during monitoring visits. HUD reviews all other data collection requirements during monitoring to assure compliance with the requirements of the Act and other related laws and authorities.

HUD tracks PJ performance and compliance with the requirements of 24 CFR parts 91 and 92. PJs use the required information in the execution of their program, and to gauge their own performance in relation to stated goals.

Reg. section | Paperwork requirement | Number of respondents | Responses per annum | Total annual responses | Burden hour per response | Annual burden hours | Hourly rate | Annual cost
§ 92.61 | Program Description and Housing Strategy for Insular Areas | 4.00 | 1.00 | 4.00 | 10.00 | 40.00 | 41.78 | $1,671.20
§ 92.66 | Reallocation—Insular Areas | 4.00 | 1.00 | 4.00 | 3.00 | 12.00 | 41.78 | 501.36
§ 92.101 | Consortia Designation | 36.00 | 1.00 | 36.00 | 5.00 | 180.00 | 41.78 | 7,520.40
§ 92.201 | State Designation of Local Recipients | 51.00 | 1.00 | 51.00 | 1.50 | 76.50 | 41.78 | 3,196.17
§ 92.200 | Private-Public Partnership | 651.00 | 1.00 | 651.00 | 2.00 | 1,302.00 | 41.78 | 54,397.56
§ 92.201 | Distribution of Assistance | 651.00 | 1.00 | 651.00 | 4.00 | 2,604.00 | 41.78 | 108,795.12
§ 92.202 | Site and Neighborhood Standards | 651.00 | 1.00 | 651.00 | 2.00 | 1,302.00 | 41.78 | 54,397.56
§ 92.203 | Income Determination | 20,001.00 | 1.00 | 20,001.00 | 2.00 | 40,002.00 | 41.78 | 1,671,283.56
§ 92.203 | Income Determination | 350,000.00 | 1.00 | 350,000.00 | 0.75 | 262,500.00 | 41.78 | 10,967,250.00
§ 92.205(e) | Terminated Projects | 540.00 | 1.00 | 540.00 | 5.00 | 2,700.00 | 41.78 | 112,806.00
§ 92.206 | Eligible Costs—Refinancing | 100.00 | 1.00 | 100.00 | 4.00 | 400.00 | 41.78 | 16,712.00
§ 92.210 | Troubled HOME-Assisted Rental Projects | 25.00 | 1.00 | 25.00 | 0.50 | 12.50 | 41.78 | 522.25
§ 92.251(a) | Property Standards—New Construction | 10,200.00 | 2.00 | 20,400.00 | 3.00 | 61,200.00 | 41.78 | 2,556,936.00
§ 92.251(b) | Property Standards—Rehabilitation | 15,300.00 | 2.00 | 30,600.00 | 2.00 | 61,200.00 | 41.78 | 2,556,936.00
§ 92.252 | Qualification as affordable housing: Rental Housing: | 3,200.00 | 1.00 | 3,200.00 | 5.00 | 16,000.00 | 41.78 | 668,480.00
§ 92.252(j) | Fixed and Floating HOME Rental Units | 3,200.00 | 1.00 | 3,200.00 | 1.00 | 3,200.00 | 41.78 | 133,696.00
§ 92.253 | Tenant Protections (including lease requirement) | 20,001.00 | 1.00 | 20,001.00 | 5.00 | 100,005.00 | 41.78 | 4,178,208.90
§ 92.254 | Homeownership—Median Purchase Price | 80.00 | 1.00 | 80.00 | 5.00 | 400.00 | 41.78 | 16,712.00
§ 92.254 | Homeownership—Alternative to Resale/recapture | 100.00 | 1.00 | 100.00 | 5.00 | 500.00 | 41.78 | 20,890.00
§ 92.254(a)(5) | Homeownership—Approval of Resale & Recapture | 2,000.00 | 1.00 | 2,000.00 | 1.50 | 3,000.00 | 41.78 | 125,340.00
§ 92.254(a)(5) | Homeownership—Fair Return & Affordability | 2.00 | 1.00 | 2.00 | 1.00 | 2.00 | 41.78 | 83.56
§ 92.254(f) | Homeownership program policies | 651.00 | 1.00 | 651.00 | 5.00 | 3,255.00 | 41.78 | 135,993.90
§ 92.300 | CHDO Identification | 651.00 | 1.00 | 651.00 | 2.00 | 1,302.00 | 41.78 | 54,397.56
§ 92.300 | Designation of CHDOs | 480.00 | 1.00 | 480.00 | 1.50 | 720.00 | 41.78 | 30,081.60
§ 92.300 | CHDO Project Assistance | 651.00 | 1.00 | 651.00 | 2.00 | 1,302.00 | 41.78 | 54,397.56
§ 92.303 | Tenant Participation Plan | 12,513.00 | 1.00 | 12,513.00 | 10.00 | 125,130.00 | 41.78 | 5,227,931.40
§ 92.351 | Affirmative Marketing | 3,870.00 | 1.00 | 3,870.00 | 5.00 | 19,350.00 | 41.78 | 808,443.00
§ 92.354 | Labor | 20,001.00 | 1.00 | 20,001.00 | 2.50 | 50,002.50 | 41.78 | 2,089,104.45
§ 92.357 | Debarment and Suspension | 9,765.00 | 1.00 | 9,765.00 | 1.00 | 9,765.00 | 41.78 | 407,981.70
§ 92.501 | HOME Investment Partnership Agreement (HUD 40093) | 651.00 | 1.00 | 651.00 | 1.00 | 651.00 | 41.78 | 27,198.78
§ 92.502 | Homeownership and Rental Set-Up and Completion | 8,000.00 | 1.00 | 8,000.00 | 2.00 | 16,000.00 | 41.78 | 668,480.00
§ 92.502 | Tenant-Based Rental Assistance Set-Up (IDIS) | 4,400.00 | 1.00 | 4,400.00 | 5.50 | 24,200.00 | 41.78 | 1,011,076.00
§ 92.502 | IDIS Access Request form (HUD 27055) | 100.00 | 1.00 | 100.00 | 0.50 | 50.00 | 41.78 | 2,089.00
§ 92.502(a) | Required Reporting of Program Income | 651.00 | 1.00 | 651.00 | 12.00 | 7,812.00 | 41.78 | 326,385.36
§ 92.504(c) | Written Agreement | 20,001.00 | 1.00 | 20,001.00 | 5.00 | 100,005.00 | 41.78 | 4,178,208.90
§ 92.504(d)(2) | Financial Oversight and HOME Rental projects | 21,700.00 | 1.00 | 21,700.00 | 1.00 | 21,700.00 | 41.78 | 906,626.00
§ 92.508 | Recordkeeping- Subsidy Layering and Underwriting | 3,200.00 | 1.00 | 3,200.00 | 4.00 | 12,800.00 | 41.78 | 534,784.00
§ 92.508 | Recordkeeping (Additional) | 30,330.00 | 1.00 | 30,330.00 | 1.00 | 30,330.00 | $41.78 | $1,267,187.40
§ 92.509 | Annual Performance Reports (HUD 40107) | 651.00 | 1.00 | 651.00 | 2.50 | 1,627.50 | 41.78 | 67,996.95
§ 92.509 | Management Reports—FY Match Report (HUD 40107A) | 651.00 | 1.00 | 651.00 | 0.75 | 488.25 | 41.78 | 20,399.09
§ 92.550, § 91.525 | HUD Monitoring of Program Documentation and Activities | 651.00 | 1.00 | 651.00 | 0.25 | 162.75 | 41.78 | 6,799.70
| Direct Deposit Sign up form (SF 1199A) | 15.00 | 1.00 | 15.00 | 0.25 | 3.75 | 41.78 | 156.68
| HOME ARP Allocation Plan | 651.00 | 1.00 | 651.00 | 20.00 | 13,020.00 | 41.78 | 543,975.60
| Supportive Services Setup and Completion Activities | 1,302.00 | 4.00 | 5,208.00 | 5.00 | 26,040.00 | 41.78 | 1,087,951.20
| Non-Congregate Shelter Setup and Completion Activities | 651.00 | 1.00 | 651.00 | 15.00 | 9,765.00 | 41.78 | 407,981.70
Totals |  | 568,984.00 |  |  |  | 1,032,119.75 |  | 43,121,963.16
Annual cost is based on Actual Burden Hours (1,032,119.75) * the hourly rate for a GS-12 ($41.78)

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2021-20281 Filed 9-17-21; 8:45 am]

BILLING CODE 4210-67-P